DEPARTMENT OF COMMERCE

National Oceanic and Atmospheric Administration

[I.D. 050206B]

Endangered Species; File No. 1571

AGENCY: National Marine Fisheries Service (NMFS), National Oceanic and Atmospheric Administration (NOAA), Commerce.

ACTION: Notice; issuance of permit.

SUMMARY: Notice is hereby given that NMFS, Southeast Fisheries Science Center (SEFSC), 75 Virginia Beach Drive, Miami, Florida 33149 has been issued a permit to take green (Chelonia mydas), loggerhead (Caretta caretta), Kemp's ridley (Lepidochelys kempii), hawksbill (Eretmochelys imbricata), leatherback (Dermochelys coriacea), olive ridley (Lepidochelys olivacea), and unidentified hardshell sea turtles for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)427-2521;Southeast Region, NMFS, 263 13th Ave South, St. Petersburg, FL 33701; phone (727)824-5312; fax (727)824-5309.

FOR FURTHER INFORMATION CONTACT: Patrick Opay or Amy Hapeman, (301)713-2289.

SUPPLEMENTARY INFORMATION: On March 22, 2006 notice was published in the Federal Register (71 FR 14504) that a request for a scientific research permit to take green, loggerhead, Kemp's ridley, hawksbill, leatherback, olive ridley, and unidentified hardshell sea turtles had been submitted by the above-named organization. The requested permit has been issued under the authority of the Endangered Species Act of 1973, as amended (ESA; 16 U.S.C. 1531 et seq.) and the regulations governing the taking, importing, and exporting of endangered and threatened species (50 CFR parts 222-226).

The SEFSC will handle, measure, weigh, photograph, flipper tag, passive integrated transponder tag, skin biopsy, and release green, loggerhead, Kemp's ridley, hawksbill, leatherback, olive ridley, and unidentified hardshell (combination of green, loggerhead, Kemp's ridley, hawksbill, olive ridley, or hybrids that would not be able to be identified at the time of capture) sea turtles. In addition, turtle carcasses, tissues or parts will be collected annually from incidental lethal take that has been previously authorized. Turtles that are incidentally captured during resource assessment cruises will be used by the SEFSC in their assessments of distribution and abundance of turtles, as well as the cumulative impacts of the relevant fishery on the stocks. The incidental capture will accrue to and be authorized by the fisheries being researched. The research will use cruise surveys as a platform to fill in data gaps in the basic biology of sea turtles, provide information on population dynamics to improve stock assessments, and to better understand the distribution of turtles in time and space. The information will be used to develop, implement, and evaluate conservation recovery efforts for sea turtles. The research will take place in the Atlantic Ocean, Gulf of Mexico, Caribbean Sea, and their tributaries. The permit is issued for 5 years.

Issuance of this permit, as required by the ESA, was based on a finding that such permit (1) Was applied for in good faith, (2) will not operate to the disadvantage of any endangered or threatened species, and (3) is consistent with the purposes and policies set forth in section 2 of the ESA.

Dated: May 24, 2006.
P. Michael Payne,
Chief, Permits, Conservation and Education Division, Office of Protected Resources, National Marine Fisheries Service.

[FR Doc. E6-8405 Filed 5-31-06; 8:45 am]

BILLING CODE 3510-22-S